DEPARTMENT OF EDUCATION

[Docket No.: ED-2025-SCC-0019]

Agency Information Collection Activities; Submission to the Office of Management and Budget for Review and Approval; Comment Request; Rural Education Achievement Program: Small, Rural School Achievement Program and Rural and Low-Income School Program Application

AGENCY: Office of Elementary and Secondary Education (OESE), Department of Education (ED).

ACTION: Notice.

SUMMARY: In accordance with the Paperwork Reduction Act (PRA) of 1995, the Department is proposing an extension without change of a currently approved information collection request (ICR).

DATES: Interested persons are invited to submit comments on or before August 20, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Victoria Hammer, (202) 260-1438.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Rural Education Achievement Program: Small, Rural School Achievement Program and Rural and Low-Income School Program Application.

OMB Control Number: 1810-0646.

Type of Review: Extension without change of a currently approved ICR.

Respondents/Affected Public: State, Local, and Tribal Governments.

Total Estimated Number of Annual Responses: 4,565.

Total Estimated Number of Annual Burden Hours: 4,120.

Abstract: The Department administers two formula grant programs under Title V, Part B (Rural Education Achievement Program (REAP)) of the Elementary and Secondary Education Act of 1965 (ESEA): the Small, Rural School Achievement (SRSA) program, administered by the Department, which makes awards directly to local educational agencies (LEAs); and the Rural and Low-Income School (RLIS) program, awarded by the Department to State Educational Agencies (SEAs), which then make awards to and administer the program for LEAs. The Department may also make RLIS awards directly to LEAs in States that do not submit an approvable RLIS application to the Department. These LEAs that apply directly to the Department for RLIS funding are known as Specially Qualified Agencies (SQAs).

The information provided to the Department enables the Department to make eligibility determinations for LEAs and to calculate formula allocations for each eligible LEA. Form 1 consists of the REAP Eligibility Spreadsheet through which SEAs provide to the Department eligibility and allocation data for both the RLIS and SRSA programs. Form 2 consists of the application package for LEAs under the SRSA program. Form 3 consists of the application package for SQAs under the RLIS program. This is a request for extension of the current information collection package (OMB #1810-0646), updated for the future fiscal years in which the collection would apply.

Ross Santy,
Chief Data Officer, Office of Planning, Evaluation and Policy Development.

[FR Doc. 2025-13666 Filed 7-18-25; 8:45 am]

BILLING CODE 4000-01-P